DEPARTMENT OF HEALTH AND HUMAN SERVICES

Centers for Disease Control and Prevention

[30Day-55-00]

Proposed Data Collections Submitted for Public Comment and Recommendations

In compliance with the requirement of Section 3506 (c)(2)(A) of the Paperwork Reduction Act of 1995, the Centers for Disease Control and Prevention (CDC) is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 30 days of this notice.

Proposed Projects

STOP IT NOW! Public Awareness Campaign—New—It is estimated that one in five girls and one in ten boys have been sexually abused before the age of eighteen. The National Center for Injury Prevention and Control (NCIPC), Centers for Disease Control and Prevention (CDC) has recognized child sexual abuse as a public health problem for several years. As a result, CDC plans to evaluate the effectiveness of the STOP IT NOW! public awareness campaign in Philadelphia as an innovative approach to child sexual abuse prevention and modify the campaign for national use. Ultimately, CDC will examine some of the more promising interventions implemented in communities across the nation to determine if these can be replicated. STOP IT NOW! is a non-profit organization founded to challenge and change sexual abuse behaviors toward children.

The goals of the proposed data collection are:

—To inform the implementation of the campaign

—To inform the modification and expansion of the program to a national level

—To collect baseline data that will later be compared to post-campaign data to evaluate the effectiveness of the campaign.

The total annual burden hours are 280.

Form | Type of respondents | No. of respondents per year | No. of responses per respondent | Avg. burden per response (in hours)
1 | Philadelphia Residents | 600 | 1 | 15/60
2 | Legal Community | 130 (65 intervention 65 comparison) | 1 | 15/60
3 | Treatment Community | 130 (65 intervention 65 comparison) | 1 | 15/60
4 | Police | 130 (65 intervention 65 comparison) | 1 | 15/60
5 | Child Protective Services | 130 (65 intervention 65 comparison) | 1 | 15/60

Dated: July 24, 2000.
Nancy Cheal,
Acting Associate Director for Policy, Planning, and Evaluation, Centers for Disease Control and Prevention (CDC).

[FR Doc. 00-19209 Filed 7-28-00; 8:45 am]

BILLING CODE 4163-18-P